ENVIRONMENTAL PROTECTION AGENCY

[FRL-10008-82-OA]

Notification of a Public Meeting of the Science Advisory Board Reduced-Form Tools Review Panel

AGENCY: Environmental Protection Agency (EPA).

ACTION: Notice.

SUMMARY: The Environmental Protection Agency (EPA) Science Advisory Board (SAB) Staff Office announces two public teleconferences of the SAB Reduced-Form Tools Review Panel (RFT Review Panel) to review EPA's October 2019 report: “Evaluating Reduced Form Tools for Estimating Air Quality Benefits.”

DATES: The public teleconferences of the Science Advisory Board RFT Review Panel will be held on Thursday, May 28, 2020, from 12:00 noon to 5:00 p.m. (Eastern Time) and Friday, May 29, 2020, from 12:00 noon to 5:00 p.m. (Eastern Time).

ADDRESSES: The teleconferences will be conducted by telephone only.

FOR FURTHER INFORMATION CONTACT: Any member of the public who wants further information concerning the public teleconferences may contact Dr. Suhair Shallal, Designated Federal Officer (DFO), via telephone/voice mail (202) 564-2059, or email at shallal.suhair@epa.gov. General information concerning the SAB can be found on the EPA website at http://www.epa.gov/sab.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Reduced-Form Tools Review Panel (RFT Review Panel) will hold two public teleconferences to review EPA's Evaluation of Reduced Form Tools for Estimating Air Quality Benefits. The SAB RFT Review Panel will provide comments on the appropriateness of the framework developed and outlined in the report for evaluating the use of Reduced-Form Tools to generate estimates of monetized health benefits compared with those that rely on full-form air quality and health benefits models to inform the cost-benefit analyses of major regulatory actions. The RFT Review Panel will also provide input with regard to future design improvements to enhance the capabilities of these tools.

Technical Contacts: Any technical questions concerning EPA's document titled Evaluating Reduced-Form Tools for Estimating Air Quality Benefits should be directed to Dr. Erika Sasser (sasser.erika@epa.gov).

Availability of Meeting Materials: Prior to the teleconferences, the agenda and other meeting materials for each teleconference will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the committee's charge or meeting materials. Input from the public to the SAB RFT Review Panel will have the most impact if it provides specific scientific or technical information or analysis for the SAB RFT Review Panel to consider or if it relates to the clarity or accuracy of the technical information. Members of the public wishing to provide comment should contact the DFO directly.

Oral Statements: In general, individuals or groups requesting an oral presentation at a public teleconference will be limited to three minutes. Persons interested in providing oral statements on May 21, 2020, should contact Dr. Sue Shallal, DFO, via email at the contact information noted above by May 21, 2020, to be placed on the list of registered speakers.

Written Statements: Written statements will be accepted throughout the advisory process; however, for timely consideration by SAB RFT Review Panel members, statements should be received in the SAB Staff Office by May 21, 2020, for consideration at the public teleconference(s). Written statements should be supplied to the DFO via email at the contact information above. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Shallal at the phone number or email address noted above, preferably at least ten days prior to the meeting, to give the EPA as much time as possible to process your request.

Dated: April 23, 2020.
V. Khanna Johnston,
Deputy Director, EPA Science Advisory Board Staff Office.

[FR Doc. 2020-09071 Filed 4-28-20; 8:45 am]

BILLING CODE 6560-50-P